DEPARTMENT OF ENERGY

Federal Energy Regulatory Commission

Combined Notice of Filings

Take notice that the Commission has received the following Natural Gas Pipeline Rate and Refund Report filings:

Filings Instituting Proceedings

Docket Numbers: RP17-1083-000.

Applicants: MarkWest Pioneer, L.L.C.

Description: MarkWest Pioneer, L.L.C. submits tariff filing per 154.204: Nonconforming Negotiated Rate Service Agreement to be effective 11/1/2017.

Filed Date: 9/25/17.

Accession Number: 20170925-5055.

Comments Due: 5 p.m. ET 10/10/17.

Docket Numbers: RP17-1084-000.

Applicants: Alliance Pipeline L.P.

Description: Alliance Pipeline L.P. submits tariff filing per 154.204: Cargill sale to Macquarie to be effective 10/1/2017.

Filed Date: 9/25/17.

Accession Number: 20170925-5100.

Comments Due: 5 p.m. ET 10/10/17.

Docket Numbers: RP17-1085-000.

Applicants: El Paso Natural Gas Company, L.L.C.

Description: El Paso Natural Gas Company, L.L.C. submits tariff filing per 154.601: Negotiated Rate Agreement Update (Pioneer Oct-Dec 2017) to be effective 10/1/2017.

Filed Date: 9/25/17.

Accession Number: 20170925-5115.

Comments Due: 5 p.m. ET 10/10/17.

Docket Number: PR17-61-000.

Applicants: ONEOK WesTex Transmission, L.L.C.

Description: Tariff filing per 284.123(b), (e)+(g): Revised Statement of Operating Conditions—to be effective 9/1/2017.

Filed Date: 9/22/17.

Accession Number: 201709225130.

Comments Due: 5 p.m. ET 10/13/17.

284.123(g) Protests Due: 5 p.m. ET 11/21/17.

Docket Number: PR17-62-000.

Applicants: Trans-Pecos Pipeline, LLC.

Description: Tariff filing per 284.123(b), (e)/: Trans-Pecos Pipeline, LLC Baseline SOC, to be effective 8/23/2017.

Filed Date: 9/22/17.

Accession Number: 201709225155.

Comments/Protests Due: 5 p.m. ET 10/13/17.

Docket Number: PR17-63-000.

Applicants: Comanche Trail Pipeline, LLC.

Description: Tariff filing per 284.123(b), (e)/: Comanche Trail Pipeline, LLC Baseline SOC, to be effective 8/24/2017.

Filed Date: 9/22/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2017.
Nathaniel J. Davis, Sr.,
Deputy Secretary.

[FR Doc. 2017-21206 Filed 10-2-17; 8:45 am]

BILLING CODE 6717-01-P